ENVIRONMENTAL PROTECTION AGENCY

40 CFR Part 52

[EPA-R03-OAR-2010-0552; FRL-9262-7 ]

Approval and Promulgation of Air Quality Implementation Plans; Pennsylvania; 2002 Base Year Emissions Inventory, Reasonable Further Progress Plan, Contingency Measures, Reasonably Available Control Measures, and Transportation Conformity Budgets for the Pennsylvania Portion of the Philadelphia-Wilmington-Atlantic City 1997 8-Hour Moderate Ozone Nonattainment Area

AGENCY: Environmental Protection Agency (EPA).

ACTION: Final rule.

SUMMARY: EPA is approving a State Implementation Plan (SIP) revision submitted by the Commonwealth of Pennsylvania. The revision being approved contains a 2002 base year emissions inventory, a reasonable further progress (RFP) plan, RFP contingency measures demonstration, and reasonably available control measure (RACM) demonstration for the Pennsylvania portion of the Philadelphia-Wilmington-Atlantic City moderate 1997 8-hour ozone nonattainment area. This rulemaking applies only to the Pennsylvania portion of this multi-state nonattainment area—an area that also lies in part in New Jersey, Maryland, and Delaware. EPA is simultaneously approving transportation conformity motor vehicle emissions budgets (MVEBs) associated with this same SIP revision. EPA is approving this SIP revision because it satisfies Clean Air Act (CAA) requirements for the 2002 emissions inventory, RFP, RACM, RFP contingency measures, and transportation conformity requirements—as defined by the CAA for areas classified as moderate nonattainment for the 1997 8-hour ozone national ambient air quality standard (NAAQS). EPA is approving the SIP revision in accordance with the requirements of the CAA and EPA regulations.

DATES: This final rule is effective on March 9, 2011.

ADDRESSES: EPA has established a docket for this action under Docket ID Number EPA-R03-OAR-2010-0552. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Brian Rehn, (215) 814-2176, or by e-mail at rehn.brian@epa.gov.

SUPPLEMENTARY INFORMATION:

I. Background

Throughout this document, whenever “we,” “us,” or “our” is used, we mean EPA. On November 5, 2010 (75 FR 68251), EPA published a notice of proposed rulemaking (or proposed rulemaking) for the Commonwealth of Pennsylvania. The notice of proposed rulemaking proposed EPA's approval of Pennsylvania's 2002 base year emissions inventory, RFP plan, RFP contingency measures, RACM, and MVEBs for the Commonwealth's portion of the Philadelphia-Wilmington-Atlantic City moderate 1997 8-hour ozone nonattainment area. EPA is approving the SIP revision because it satisfies the emissions inventory, RFP, RACM, RFP contingency measures, and transportation conformity requirements of section 110 and part D of the CAA and associated EPA regulations. This SIP revision was formally submitted by the Pennsylvania Department of Environmental Protection (PA DEP) on August 29, 2007, and was formally amended by PA DEP on December 10, 2009 and again on April 12, 2010.

II. Summary of SIP Revision

The SIP revision (and subsequent SIP amendments) address the emissions inventory, RFP, RACM, and RFP contingency measures requirements for the 1997 8-hour ozone NAAQS for the Pennsylvania portion of the Philadelphia-Wilmington-Atlantic City 8-hour ozone moderate nonattainment area. The SIP revision also establishes MVEBs for 2008. Other specific requirements of Pennsylvania's August 29, 2007 SIP revision (as amended in December 2009 and April 2010) for the Philadelphia-Wilmington-Atlantic City 8-hour ozone nonattainment area and EPA's rationale for our proposed action are explained in the November 5, 2010 proposed rulemaking and will not be restated here. A more detailed description of the August 2007 SIP revision, as well as the substance of each of the subsequent SIP amendments is discussed in detail in EPA's November 5, 2010 proposed rulemaking. No public comments were received on EPA's November 2010 proposed rulemaking.

III. Final Action

EPA is approving the 2002 base year emissions inventory; the 2008 ozone projected emission inventory; the 2008 RFP plan; RFP contingency measures; RACM analysis; and 2008 transportation conformity budgets for the Pennsylvania portion of the Philadelphia-Wilmington-Atlantic City 8-hour ozone nonattainment area, contained in Pennsylvania's August 29, 2007 SIP revision (as formally amended by Pennsylvania in December 2009 and April 2010) for the Philadelphia-Wilmington-Atlantic City 8-hour ozone nonattainment area. The SIP revision satisfies the requirements for 1997 8-hour ozone NAAQS nonattainment areas classified as moderate and demonstrates reasonable further progress in reducing ozone precursors.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by April 8, 2011. Filing a petition for reconsideration by the Administrator of this final rule does not affect the finality of this action for the purposes of judicial review nor does it extend the time within which a petition for judicial review may be filed, and shall not postpone the effectiveness of such rule or action.

This action to approve the emission inventory, RFP demonstration, RACM determination, RFP contingency measures, and MVEBs may not be challenged later in proceedings to enforce its requirements. (See section 307(b)(2).)

List of Subjects in 40 CFR Part 52

Environmental protection, Air pollution control, Incorporation by reference, Intergovernmental relations, Nitrogen dioxide, Ozone, Volatile organic compounds.

Dated: January 24, 2011.
W.C. Early,
Acting Regional Administrator, Region III.

40 CFR part 52 is amended as follows:

PART 52—[AMENDED]

1. The authority citation for part 52 continues to read as follows:

Authority: 42 U.S.C. 7401 et seq.

Subpart NN—Pennsylvania

2. In § 52.2020, the table in paragraph (e)(1) is amended by adding, at the end of the table, entries for “Reasonable Further Progress Plan (RFP), Reasonably Available Control Measures, and RFP Contingency Measures”; 2002 Base Year Emissions Inventory for Volatile Organic Compounds (VOC), Nitrogen Oxides (NOX), and Carbon Monoxide (CO)”; and “2008 RFP Transportation Conformity Motor Vehicle Emission Budgets” to read as follows:

§ 52.2020 Identification of plan.

* * * * *

(e) * * *

(1) * * *

Name of non-regulatory SIP revision | Applicable geographic area | State submittal date | EPA approval date | Additional explanation
* * * * * * *
Reasonable Further Progress Plan (RFP), Reasonably Available Control Measures, and RFP Contingency Measures | Pennsylvania portion of the Philadelphia-Wilmington-Atlantic City, PA-DE-MD-NJ 1997 8-hour ozone moderate nonattainment area | 8/29/07, 12/10/09, 4/12/10) | 2/7/11 [Insert page number where the document begins]
2002 Base Year Emissions Inventory for Volatile Organic Compounds (VOC), Nitrogen Oxides (NOX), and Carbon Monoxide (CO) | Pennsylvania portion of the Philadelphia-Wilmington-Atlantic City, PA-DE-MD-NJ 1997 8-hour ozone moderate nonattainment area | 8/29/07, 12/10/09, 4/12/10 | 2/7/11 [Insert page number where the document begins]
2008 RFP Transportation Conformity Motor Vehicle Emission Budgets | Pennsylvania portion of the Philadelphia-Wilmington-Atlantic City, PA-DE-MD-NJ 1997 8-hour ozone moderate nonattainment area | 8/29/07, 12/10/09, 4/12/10 | 2/7/11 [Insert page number where the document begins]

* * * * *

3. Section 52.2036 is amended by revising the section heading and by adding paragraph (o) to read as follows:

§ 52.2036 Base Year Emissions Inventory.

* * * * *

(o) EPA approves as a revision to the Pennsylvania State Implementation Plan the 2002 base year emissions inventories for the Pennsylvania portion of the Philadelphia-Wilmington-Atlantic City, PA-DE-MD-NJ 1997 8-hour ozone moderate nonattainment area submitted by the Secretary of the Pennsylvania Department of Environmental Protection on August 29, 2007 (as formally amended by Pennsylvania on December 10, 2009 and on April 12, 2010). This submittal consists of the 2002 base year point, area, non-road mobile, and on-road mobile source emission inventories for this area, for the following pollutants: Volatile organic compounds (VOC), carbon monoxide (CO) and nitrogen oxides (NOX).

4. Section 52.2037 is amended by adding paragraphs (o) and (p) to read as follows:

§ 52.2037 Control strategy plans for attainment and rate-of-progress: Ozone.

* * * * *

(o) EPA approves revisions to the Pennsylvania State Implementation Plan consisting of the 2008 reasonable further progress (RFP) plan, reasonably available control measure demonstration, and contingency measures for the Pennsylvania portion of the Philadelphia-Wilmington-Atlantic City, PA-DE-MD-NJ 1997 8-hour ozone moderate nonattainment area submitted by the Secretary of the Pennsylvania Department of Environmental Protection on August 29, 2007 (as formally amended by Pennsylvania on December 10, 2009 and April 12, 2010).

(p) EPA approves the following 2008 RFP motor vehicle emissions budgets (MVEBs) for the Pennsylvania portion of the Philadelphia-Wilmington-Atlantic City, PA-DE-MD-NJ 1997 8-hour ozone moderate nonattainment area submitted by the Secretary of the Pennsylvania Department of Environmental Protection on August 29, 2007 (as formally amended by Pennsylvania on December 10, 2009):

Transportation Conformity Emissions Budgets for the Pennsylvania Portion of the Philadelphia-Wilmington-Atlantic City, PA-DE-MD-NJ Area
Type of control strategy SIP | Year | VOC (TPD) | NOX (TPD) | Effective date of adequacy determination or SIP approval
Rate of Progress Plan | 2008 | 61.09 | 108.78 | January 5, 2009 (73 FR 77682), published December 19, 2008.

[FR Doc. 2011-2604 Filed 2-4-11; 8:45 am]

BILLING CODE 6560-50-P